NUCLEAR REGULATORY COMMISSION

[Docket No. 72-7-EA; ASLBP No. 09-888-03-EA-BD01]

Detroit Edison Company; Establishment of Atomic Safety and Licensing Board

Pursuant to delegation by the Commission dated December 29, 1972 (37 FR 28710), and the Commission's regulations, see 10 CFR 2.106, 2.300, 2.313(a), and 2.318, notice is hereby given that an Atomic Safety and Licensing Board (Board) is being established to preside over the following proceeding:

Detroit Edison Company Fermi Power Plant

(Independent Spent Fuel Storage Installation)

This proceeding concerns a Petition to Intervene dated May 7, 2009 from Beyond Nuclear, et al., that was submitted in response to an April 17, 2009 notice issued by the NRC Staff that provided the Issuance of Order for Implementation of Additional Security Measures and Fingerprinting for Unescorted Access to Detroit Edison Company (74 FR 17890).

The Board is comprised of the following administrative judges:

Ronald M. Spritzer, Chair, Atomic Safety and Licensing Board Panel, U.S. Nuclear Regulatory Commission, Washington, DC 20555-0001.

Michael F. Kennedy, Atomic Safety and Licensing Board Panel, U.S. Nuclear Regulatory Commission, Washington, DC 20555-0001.

Randall J. Charbeneau, Atomic Safety and Licensing Board Panel, U.S. Nuclear Regulatory Commission, Washington, DC 20555-0001.

All correspondence, documents, and other materials shall be filed in accordance with the NRC E-Filing Rule, which the NRC promulgated in August 2007 (72 FR 49139).

Issued at Rockville, Maryland, this 15th day of May 2009.
E. Roy Hawkens,
Chief Administrative Judge, Atomic Safety and Licensing Board Panel.

[FR Doc. E9-11985 Filed 5-21-09; 8:45 am]

BILLING CODE 7590-01-P